DEPARTMENT OF AGRICULTURE

Food and Nutrition Service

Agency Information Collection Activities: WIC Participant and Program Characteristics 2024 & 2026 Study

AGENCY: Food and Nutrition Service (FNS), USDA.

ACTION: Notice.

SUMMARY: In accordance with the Paperwork Reduction Act of 1995, this notice invites the general public and other public agencies to comment on this proposed information collection. This collection is a reinstatement, with change, of a previously approved collection for which approval has expired for the WIC Participant and Program Characteristics 2024 and 2026 Study.

DATES: Written comments must be received on or before August 22, 2023.

ADDRESSES: Comments may be sent to: Rachel Zack at rachel.zack@usda.gov. Comments will also be accepted through the Federal eRulemaking Portal. Go to https://www.regulations.gov, and follow the online instructions for submitting comments electronically. All responses to this notice will be summarized and included in the request for Office of Management and Budget approval. All comments will be a matter of public record.

FOR FURTHER INFORMATION CONTACT: Requests for additional information or copies of this information collection should be directed to Rachel Zack at rachel.zack@usda.gov or 703-305-2127.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: WIC Participant and Program Characteristics 2024 & 2026 Study.

Form Number: N/A.

OMB Number: 0584-0609.

Expiration Date: 12/31/2022.

Type of Request: Reinstatement, with change, of a previously approved collection for which approval has expired.

Abstract: The Special Supplemental Nutrition Program for Women, Infants, and Children (WIC) is administered by the U.S. Department of Agriculture's (USDA) Food and Nutrition Service (FNS). WIC provides supplemental foods, health care referrals, breastfeeding promotion and support, and nutrition education to nutritionally at-risk, income-eligible pregnant, breastfeeding and non-breastfeeding postpartum women, infants, and children up to age five years. WIC is administered through 89 State agencies consisting of the 50 States, the District of Columbia, 5 territories, and 33 Indian Tribal Organizations (ITOs).

Since 1988, FNS has produced the biennial WIC Participant and Program Characteristics Study (PC) report that describes demographic, income, breastfeeding, and health-related information of a census of WIC participants as well as information on the benefits they receive through WIC. Data used to produce the PC reports are collected from participants by State agencies at the time of participant certification in WIC and then submitted to FNS biennially. FNS uses the regularly updated PC reports to evaluate the impact of the program, support State agencies, estimate budgets, submit civil rights reporting, identify research needs, and review current and proposed WIC policies and procedures.

The WIC Participant and Program Characteristics 2024 and 2026 Study will be the 19th and 20th completed in the biennial PC study series. The information collection subject to this notice includes the following, including a few changes and additions to the previous PC study collections:

1. Collection of the WIC PC Minimum and Supplemental Data Sets from 89 State agencies: Like all PC studies since 1992, Minimum and Supplemental Data Sets consisting of administrative information used by State agencies to certify WIC applicants and to issue benefits will be collected using a reference month of April of the PC reference year. The 20-item Minimum Data Set (e.g., birth date, race, ethnicity, height, weight, hemoglobin measurements) will be obtained from all State agency's existing Management Information Systems (MIS) and the 11-item Supplemental Data Set (SDS) (e.g., date of first WIC certification, years of education, birth length) will be obtained from those State agencies which can provide SDS items if they are available.

2. Collection of longitudinal WIC PC-related data from 89 State agencies: To enhance the utility of the PC data and allow for assessment of participant-level retention and health outcomes over time, this study will include a new pilot effort to collect up to two years of longitudinal retrospective PC-related data from as many State agencies as possible (it is possible that not all State agencies have the capability and capacity to provide these data). Longitudinal data will be collected in a similar manner as the MDS and SDS data and will include MDS and SDS variables over a specified time period plus any variables deemed necessary for useful longitudinal evaluation of WIC participant and program characteristics such as participant ID and date of first certification.

3. Collection of WIC Electronic Benefits Transfer Data (EBT) from 4 EBT processors and 17 State agencies: Like all PC studies since 2016, information on WIC food package issuance and costs will be reported for this study. However, this study will include a new data collection element that will allow for more accurate reporting on food package issuance and costs and will also allow for reporting on food package redemption. The new element will consist of collecting EBT data from the four WIC EBT processors and from 17 State agencies that operate EBT offline.

Affected Public: State, Local and Tribal Government include State WIC officials. Business and other for profit include WIC EBT processor staff. Respondent groups include State WIC officials and EBT processor staff.

Estimated Number of Respondents: The total estimated number of respondents is 364. This includes, for each of the two rounds of the study: 89 WIC State agency office and administrative support staff, 89 WIC State agency state database administrators, and 4 WIC EBT processor staff.

Estimated Number of Responses per Respondent: 5.88.

Estimated Total Annual Responses: 2,158. This includes 2,140 responses from respondents and 18 responses from non-respondents.

Estimated Time per Response: 64.8 minutes (1.08 hours). The estimated time of response varies from 3 minutes (0.05 hours) for reminder emails to 35 hours for running the data reports.

Estimated Total Annual Burden on Respondents: The total estimated annual burden for respondents and non-respondents is 2325.4 hours. See the table below for estimated total annual burden for each type of respondent.

BILLING CODE 3410-30-P

Tameka Owens,
Assistant Administrator, Food and Nutrition Service.

[FR Doc. 2023-13313 Filed 6-22-23; 8:45 am]

BILLING CODE 3410-30-C